FEDERAL COMMUNICATIONS COMMISSION

Notice of Public Information Collection(s) being Submitted to OMB for Review and Approval

August 14, 2000

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 25, 2000. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION:

OMB Control Number: 3060-0683.

Title: Direct Broadcast Satellite Service—47 CFR Part 100.

Type of Review: Extension of a currently approved collection.

Respondents: Businesses or other for-profit entities.

Number of Respondents: 8.

Estimated Time per Response: 400 hours.

Frequency of Response: On occasion reporting requirements.

Total Annual Burden: 3,200 hours.

Total Annual Cost: $5,800.

Needs and Uses: The information requested under CFR part 100 of the FCC's rules is used by the Commission to determine whether applicants are legally, technically, and financially qualified to hold a DBS authorization. Without such information, the Commission could not make determinations for authorization to provide service to successful applicants and would not, therefore, be able to fulfill its statutory obligations in accordance with the Communications Act of 1934, as amended.

OMB Control Number: 3060-0765.

Title: Revision of part 22 and part 90 of the Commission's Rules to Facilitate Future Development of Paging Systems, Further Notice of Proposed Rulemaking.

Form Number: FCC 601.

Type of Review: Revision of a currently approved collection.

Respondents: Business or other for-profit entities; Individuals or households; Not-for-profit Institutions; Federal government; and State, local, or Tribal Government.

Number of Respondents: 3,000.

Estimated Time Per Response: 1.25 hours (avg.).

Frequency of Response: On occasion reporting requirements.

Total Annual Burden: 3,750 hours.

Total Annual Costs: $750,000.

Needs and Uses: This proceeding will further establish a regulatory scheme for the common carrier paging (CCP) and private carrier paging (PCP) services which will promote efficient licensing and competition in the commercial mobile radio marketplace. The Commission uses this information to determine if the licensee is a qualifying entity to obtain a partitioned license or disaggregated spectrum. Without such information, the Commission could not determine whether the licensee is operating in compliance with the Commission's rules.

OMB Control Number: 3060-0865.

Title: Wireless Telecommunications Bureau Universal Licensing System Recordkeeping and Third Party Disclosure.

Form Number: N/A.

Type of Review: Extension of a currently approved collection.

Respondents: Business or other for-profit entities; Individuals or households; Not-for-profit Institutions; and State, local, or Tribal Governments.

Number of Respondents: 62,791.

Estimated Time Per Response: 1.10 hours (avg.).

Frequency of Response: Recordkeeping; On occasion reporting requirements.

Total Annual Burden: 77,164 hours.

Total Annual Costs: None.

Needs and Uses: The Universal Licensing System (ULS) establishes a streamlined set of rules that minimizes filing requirements, eliminates redundant or unnecessary submission requirements, and assures the on-going collection of reliable licensing and ownership data. The recordkeeping and third party disclosure requirements contained in this collection are the result of the elimination of a number of filing requirements. The ULS forms contain a number of certifications; however, applicants must maintain records to document compliance with the requirements for which they provide certifications. In some instances, coordination with third parties are required.

Federal Communications Commission.
William F. Caton,
Deputy Secretary.

[FR Doc. 00-21623 Filed 8-23-00; 8:45 am]

BILLING CODE 6712-01-P